DEPARTMENT OF ENERGY

Federal Energy Regulatory Commission

[Project No. 12678-002]

ORPC Alaska, LLC; Notice of Surrender of Preliminary Permit

June 20, 2007.

Take notice that ORPC Alaska, LLC, permittee for the proposed Resurrection Bay OCGen™ Power Project, has requested that its preliminary permit be terminated. The permit was issued on April 16, 2007, and would have expired on March 31, 2010.¹ The project would have been located in Resurrection Bay in the Gulf of Alaska between Aialik Peninsula and Resurrection Peninsula, near the City of Seward in Kenai Peninsula Borough, Alaska.

¹ 119 FERC ¶ 62,042.

The permittee filed the request on May 29, 2007, and the preliminary permit for Project No. 12678 shall remain in effect through the thirtieth day after issuance of this notice unless that day is a Saturday, Sunday, part-day holiday that affects the Commission, or legal holiday as described in section 18 CFR 385.2007, in which case the effective date is the first business day following that day. New applications involving this project site, to the extent provided for under 18 CFR Part 4, may be filed on the next business day.

Kimberly D. Bose,
Secretary.

[FR Doc. E7-12477 Filed 6-27-07; 8:45 am]

BILLING CODE 6717-01-P